DEPARTMENT OF AGRICULTURE

Submission for OMB Review; Comment Request

May 6, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Representations for CCC and FSA Loans and Authorization to File a Financing Statement.

OMB Control Number: 0560-0215.

Summary of Collection: The revised Article 9 of the Uniform Commercial Code deals with secured transaction for personal property. The revised Article 9 affects the manner in which the Commodity Credit Corporation (CCC) and the Farm Service Agency (FSA), as well as any other creditor, perfect and liquidate security interests in collateral. FSA operates several loan programs that are affected by the revision to Article 9 of the Uniform Commercial Code. Each of the programs requires that loans be secured with collateral. The security interest is created and attaches to the collateral when: (1) Value has been given, (2) the debtor has rights in the collateral or the power to transfer rights in the collateral, and (3) the debtor has authenticated a security agreement that provides a description of the collateral. FSA will collect information using form CCC-10. The information obtained on CCC-10 is needed to not only obtain authorization from loan applicants to file a financing statement without their signature, and to verify the name and location of the debtor.

Need and Use of the Information: The information that FSA collects will be used to gather or verify basic data regarding the applicant which is required on a financing statement and to obtain permission to file a financing statement prior to the execution of a security agreement. Without obtaining the information from loan applicants, CCC and FSA would be unable to perfect a security interest in collateral used to secure loans.

Description of Respondents: Farms; Individuals or households; Business or other for-profit.

Number of Respondents: 55,500.

Frequency of Responses: Reporting; On occasion.

Total Burden Hours: 32,357.

Ruth Brown,
Departmental Information Collection Clearance Officer.

[FR Doc. E8-10403 Filed 5-8-08; 8:45 am]

BILLING CODE 3410-05-P